DEPARTMENT OF JUSTICE

Immigration and Naturalization Service

[INS No. 2044-00; AG Order No. 2295-2000]

RIN 1115-AE26

Designation of Angola Under the Temporary Protected Status Program

AGENCY: Immigration and Naturalization Service, Justice.

ACTION: Notice.

SUMMARY: The Attorney General is authorized to grant Temporary Protected Status (TPS) in the United States to eligible nationals of designated foreign states or parts of such states (or to eligible aliens who have no nationality and who last habitually resided in such designated states) upon a finding that such states are experiencing ongoing armed conflict, environmental disaster, or other extraordinary and temporary conditions. Due to the armed conflict in Angola, which prevents the safe return of nationals of that country, this notice designates Angola for the TPS program for a period of 12 months, until March 29, 2001. This notice provides information regarding eligibility and application procedures.

DATES: This designation is effective on March 29, 2000, and will remain in effect until March 29, 2001.

FOR FURTHER INFORMATION CONTACT: Michael Valverde, Residence and Status Branch, Adjudications, Immigration and Naturalization Service, 425 I Street, NW., room 3214, Washington, DC 20536, telephone (202) 514-4754.

SUPPLEMENTARY INFORMATION:

Why Did the Attorney General Decide To Designate Angola Under the TPS Program?

Based on a thorough review by the Departments of State and Justice, the Attorney General finds that there is significant ongoing armed conflict in Angola, and that the return of aliens who are nationals of Angola (as well as aliens having no nationality who last habitually resided in Angola) would pose a serious risk to their personal safety. A Department of State memorandum on Angola states that: “Fighting is now once again widespread throughout much of Angola. Some 70% of Angola's area is currently outside effective government control. The United Nations High Commissioner for Refugees has called for a moratorium on returns to Angola as a result of the conflict and resulting insecurity within the country.”

Based on these and other findings, the Attorney General has determined that the armed conflict in Angola and related extraordinary and temporary conditions prevent the safe return of aliens who are nationals of Angola (as well as aliens having no nationality who last habitually resided in Angola). The Attorney General further finds that permitting such aliens to remain temporarily in the United States is not contrary to the national interests of the United States.

Who Is Eligible for TPS Under This Designation?

In order to be eligible for TPS under this designation, an alien must:

• Be a national of Angola (or an alien having no nationality who last habitually resided in Angola);

• Have been continuously physically present in the United States since March 29, 2000.

• Have continuously resided in the United States since March 29, 2000.

• Be admissible as an immigrant except as provided under section 244(c)(2)(A) of the Act, and not ineligible under section 244(c)(2)(B) of the Act; and must

• Apply for TPS within the registration period which begins on March 29, 2000, and ends on March 29, 2001.

Does Applying for TPS Affect an Application for Asylum or Any Other Immigration Benefit?

No. Any national of Angola who has already applied for, or plans to apply for asylum, but whose asylum application has not yet been approved may also apply for TPS. An application for TPS does not affect an application for asylum or any other immigration benefit. Denial of an application for asylum or any other immigration benefit does not affect an alien's ability to register for TPS, although the grounds of denial of that application may also lead to denial of TPS. For example, an alien who has been convicted of an aggravated felony is not eligible for asylum or TPS.

How Do I Register for TPS?

Applicants from Angola may register for TPS by:

• Filing an Application for Temporary Protected Status, Form I-821, with a $50 filing fee and a $25 fingerprint fee;

• Providing two identification photographs (1½″ x 1½″);

• Providing supporting evidence, as provided in 8 CFR 244.9 (evidence of identity and nationality, and proof of residence); and

• Filing an Application for Employment Authorization, Form I-765.

The chart below contains information regarding payment of the $100 fee for filing Form I-765, and information regarding fee waivers.

If | Then
You are applying for employment authorization through March 29, 2001 | You must complete and file the Form I-765, Application for Employment Authorization, with the $100 fee.
You already have employment authorization or do not require employment authorization | You must complete and file the Form I-765, Application for Employment Authorization, without a fee.
You are requesting a fee waiver for the $50 fee for the Form I-821 and/or the $100 fee for the Form I-765 | You must complete and file the Form I-821, the Form I-765, a the requisite fee waiver request and affidavit (and any other information), in accordance with 8 CFR 244.20.

Where Should I Submit My Application for TPS?

You should submit your application for TPS at the Service district office that has jurisdiction over your place of residence.

What Happens After March 29, 2000, the Date the Initial Designation Expires?

Pursuant to section 244(b)(3)(A) of the Act, the Attorney General will review, at least 60 days before March 29, 2001, the conditions in Angola to determine whether the conditions for designation of Angola under the TPS program continue to exist. Notice of that determination, including the basis for the determination, will be published in the Federal Register.

If the initial TPS designation is extended at that time, an alien who is granted TPS must register for any extension of the TPS program in order to maintain TPS. On the other hand, if the TPS designation is not extended after March 29, 2001, those aliens granted TPS will revert back to the immigration status they had prior to TPS, if still available, unless they have been granted another benefit.

Notice of Designation of Angola Under the Temporary Protected Status Program

By the authority vested in me as Attorney General under section 244 of the Immigration and Nationality Act, as amended (8 U.S.C. 1254a), I find, after consultation with the appropriate agencies of the Government, that:

(1) There is an ongoing armed conflict within Angola and, due to such conflict, requiring the return of aliens who are nationals of Angola (as well as aliens having no nationally who last habitually resided in Angola) would pose a serious threat to their personal safety;

(2) There exist extraordinary and temporary conditions in Angola that prevent aliens who are nationals of Angola (as well as aliens having no nationally who last habitually resided in Angola) from returning to Angola in safety; and

(3) Permitting nationals of Angola (or aliens having no nationality who last habitually resided in Angola) to remain temporarily in the United States is not contrary to the national interests of the United States. Accordingly, I order as follows:

(1) Angola is designated for TPS under section 244(b)(1)(A) and (C) of the Act. Nationals of Angola (or aliens having no nationality who last habitually resided in Angola) who have been “continuously physically present” and have “continuously resided” in the United States since March 29, 2000, may apply for TPS within the registration period, which begins on March 29, 2000, and ends on March 29, 2001.

(2) I estimate that there are no more than 1,700 nationals of Angola (or aliens having no nationality who last habitually resided in Angola) in the United States who are eligible for TPS.

(3) Information concerning the TPS program for nationals of Angola (or aliens having no nationality who last habitually resided in Angola) will be available at the Service website, located at http://www.ins.usdoj.gov, or at local Immigration and Naturalization Service offices upon publication of this notice.

Dated: March 22, 2000.
Janet Reno,
Attorney General.

[FR Doc. 00-7683 Filed 3-28-00; 8:45 am]

BILLING CODE 4410-10-M